DEPARTMENT OF TRANSPORTATION

Federal Aviation Administration

14 CFR Part 39

[Docket No. FAA-2004-19493; Directorate Identifier 2004-NM-69-AD; Amendment 39-14018; AD 2005-06-10]

RIN 2120-AA64

Airworthiness Directives; Boeing Model 767-200, -300, and -300F Series Airplanes

AGENCY: Federal Aviation Administration (FAA), Department of Transportation (DOT).

ACTION: Final rule.

SUMMARY: The FAA is adopting a new airworthiness directive (AD) for certain Boeing Model 767-200, -300, and -300F series airplanes. This AD requires replacing the inboard fairing seal common to the vapor barrier seal of each strut assembly. This AD is prompted by discovery during production that a section of vapor barrier seal was missing from the spar web cavities of the upper aft struts of both wings. We are issuing this AD to prevent flammable fluids from leaking onto parts of a hot exhaust system of a shut-down engine of an airplane on the ground, which could result in ignition of the flammable fluids and an uncontained fire. This could also lead to an emergency evacuation of the airplane and possible injury to passengers.

DATES: This AD becomes effective April 25, 2005.

The incorporation by reference of a certain publication listed in the AD is approved by the Director of the Federal Register as of April 25, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19493; the directorate identifier for this docket is 2004-NM-69-AD.

FOR FURTHER INFORMATION CONTACT: John L. Vann, Aerospace Engineer, Propulsion Branch, ANM-140S, FAA, Seattle Aircraft Certification Office, 1601 Lind Avenue, SW., Renton, Washington 98055-4056; telephone (425) 917-6513; fax (425) 917-6590.

SUPPLEMENTARY INFORMATION: The FAA proposed to amend 14 CFR Part 39 with an AD for certain Boeing Model 767-200, -300, and -300F series airplanes. That action, published in the Federal Register on November 3, 2004 (69 FR 63963), proposed to require replacing the inboard fairing seal common to the vapor barrier seal of each strut assembly.

Comments

We provided the public the opportunity to participate in the development of this AD. We have considered the comments that have been submitted on the proposed AD.

Agreement With Proposed AD

Two commenters, the manufacturer and an operator, agree with the proposed AD.

Request for Extended Compliance Time

One commenter, another operator, requests that we change the compliance deadline from 60 months to 84 months after the effective date. The operator states that this will allow the airlines to accomplish the required maintenance within their heavy maintenance visit schedules, thereby minimizing aircraft out-of-service time and the associated extra expense.

We do not agree with the commenter's request to extend the compliance time. In developing an appropriate compliance time for this action, we considered the safety implications, the level of effort needed to incorporate the change, and normal maintenance schedules for the timely accomplishment of the modification. In consideration of these items, we have determined that a 60-month interval will ensure an acceptable level of safety and allow the modifications to be done with no airplane out-of-service time during scheduled maintenance intervals for most affected operators. We have not changed the final rule.

Conclusion

We have carefully reviewed the available data, including the comments that have been submitted, and determined that air safety and the public interest require adopting the AD as proposed, except for minor editorial changes.

Clarification of Costs of Compliance

We have discovered that the numbers shown in the proposed AD were incorrect for the worldwide total of affected airplanes and affected airplanes of U.S. registry. We have changed the Costs of Compliance section of this AD to reflect the correct numbers of affected airplanes.

Costs of Compliance

There are about 723 airplanes worldwide of the affected design. This AD will affect about 228 airplanes of U.S. registry. The actions will take about 4 work hours per airplane, at an average labor rate of $65 per work hour. Required parts will cost about $185 per airplane. Based on these figures, the estimated cost of the AD for U.S. operators is $101,460, or $445 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-06-10 Boeing: Amendment 39-14018. Docket No. FAA-2004-19493; Directorate Identifier 2004-NM-69-AD.

Effective Date

(a) This AD becomes effective April 25, 2005.

Affected ADs

(b) None.

Applicability

(c) This AD applies to Boeing Model 767-200, -300, and -300F series airplanes; certificated in any category; equipped with General Electric and Pratt and Whitney engines; as identified in Boeing Service Bulletin 767-54-0107, Revision 1, dated December 18, 2003.

Unsafe Condition

(d) This AD was prompted by discovery during production that a section of vapor barrier seal was missing from the spar web cavities of the upper aft struts of both wings. We are issuing this AD to prevent flammable fluids from leaking onto parts of a hot exhaust system of a shut-down engine of an airplane on the ground, which could result in ignition of the flammable fluids and an uncontained fire. This could also lead to an emergency evacuation of the airplane and possible injury to passengers.

Compliance

(e) You are responsible for having the actions required by this AD performed within the compliance times specified, unless the actions have already been done.

Installation of Seal

(f) Within 60 months after the effective date of this AD, replace the inboard fairing seal common to the vapor barrier seal of each strut assembly with a new inboard fairing seal in accordance with the Accomplishment Instructions of Boeing Service Bulletin 767-54-0107, Revision 1, dated December 18, 2003.

Seal Installations Accomplished Per Previous Issue of Service Bulletin

(g) Seal installations accomplished in accordance with the Accomplishment Instructions of Boeing Service Bulletin 767-54-0107, dated January 16, 2003, are considered acceptable for compliance with the corresponding action specified in this AD.

Alternative Methods of Compliance (AMOCs)

(h) The Manager, Seattle Aircraft Certification Office, FAA, has the authority to approve AMOCs for this AD, if requested using the procedures found in 14 CFR 39.19.

Material Incorporated by Reference

(i) You must use Boeing Service Bulletin 767-54-0107, Revision 1, dated December 18, 2003, to perform the actions that are required by this AD, unless the AD specifies otherwise. The Director of the Federal Register approves the incorporation by reference of this document in accordance with 5 U.S.C. 552(a) and 1 CFR part 51. For copies of the service information, contact Boeing Commercial Airplanes, P.O. Box 3707, Seattle, Washington 98124 2207. For information on the availability of this material at the National Archives and Records Administration (NARA), call (202) 741-6030, or go to http://www.archives.gov/federal_register/code_of_federal_regulations/ibr_locations.html. You may view the AD docket at the Docket Management Facility, U.S. Department of Transportation, 400 Seventh Street SW, room PL-401, Nassif Building, Washington, DC.

Issued in Renton, Washington, on March 9, 2005.
Ali Bahrami,
Manager, Transport Airplane Directorate, Aircraft Certification Service.

[FR Doc. 05-5387 Filed 3-18-05; 8:45 am]

BILLING CODE 4910-13-P